DEPARTMENT OF TRANSPORTATION

Pipeline and Hazardous Materials Safety Administration

[Docket No. PHMSA-2016-0042; Notice No. 2016-06]

Hazardous Materials: Termination of Designated Approval Agencies Approvals

AGENCY: Pipeline and Hazardous Materials Safety Administration (PHMSA), DOT.

ACTION: Notice.

SUMMARY: This notice is to advise interested persons that PHMSA has terminated the Designated Approval Agencies approvals listed herein. PHMSA, via certified mail, attempted to contact all of the below listed approval holders during May 2015. PHMSA issued a Show Cause letter via certified mail requesting a response within 30 days with their intent with respect to the approval. None of the companies complied with the requirements of the letter. Thus, PHMSA issued a Termination letter via certified mail in December 2015. To date, PHMSA has not received any correspondence concerning the below listed approval numbers.

FOR FURTHER INFORMATION CONTACT: Mr. Ryan Paquet, Director, Approvals and Permits Division, Office of Hazardous Materials Safety, (202) 366-4512, PHMSA, 1200 New Jersey Avenue SE., Washington, DC 20590 or at approvals@dot.gov.

Correspondence with respect to the below listed approval numbers should be sent to approvals@dot.gov with a subject line “Termination Letter” and should be in writing; state in detail any alleged errors of fact and law; enclose any additional information needed to support the request; and state in detail the modification of the final decision sought.

SUPPLEMENTARY INFORMATION:

I. Introduction

In this notice, PHMSA's Approvals and Permits Division is terminating the approvals listed below based on a change in circumstances rendering the approval no longer necessary (49 CFR 107.713(b)(1)); and/or violations of your approval and the HMR that demonstrate a lack of fitness (49 CFR 107.713(b)(4)).

II. Background

On March 17, 2014, PHMSA held a mandatory Designated Approvals Agency (DAA) meeting. In May 2015, PHMSA mailed a Show Cause letter to each DAA that did not attend this meeting, requesting the DAA provide current operating status. The companies below did not respond to the Show Cause letter. In December 2015, PHMSA issued a Termination letter to each DAA listed below. As of January 1, 2016, PHMSA has not received any correspondence from these DAAs, and PHMSA terminated the approvals of the approval holders listed below. This Federal Register notice serves as an official announcement of termination of those approvals.

III. Action

PHMSA has terminated the below listed approvals, and this Federal Register notice serves as an official announcement to the public.

IV. Approvals Terminated

ID No. | Approval holder/company
107-94-01 | Pacific Marine Repair, Inc
IM-9703 | TDI, Inc
IA-0301 | ATech Engineering
IM-9603 | Unicon International
IA-8105 | British Engine
IM-9602 | Commercial Union Insurance Company
IA-0401 | Trimac Transportation Services, Inc

Issued in Washington, DC, on August 10, 2016, under authority delegated in 49 CFR part 107.
William S. Schoonover,
Deputy Associate Administrator, Pipeline and Hazardous Materials Safety Administration.

[FR Doc. 2016-19415 Filed 8-15-16; 8:45 am]

BILLING CODE 4910-60-P